COMMITTEE FOR THE IMPLEMENTATION OF TEXTILE AGREEMENTS

Establishment of Import Limits for Certain Cotton, Wool and Man-Made Fiber Textiles and Textile Products Produced or Manufactured in the Socialist Republic of Vietnam and Suspension of Textile Visa Requirements for Ukraine

December 19, 2006.

AGENCY: Committee for the Implementation of Textile Agreements (CITA).

Action: Issuing a directive to the Commissioner, Bureau of Customs and Border Protection establishing limits for Vietnam and suspending all previous directives concerning visa requirements for Ukraine.

EFFECTIVE DATE: January 1, 2007.

FOR FURTHER INFORMATION CONTACT: Ross Arnold, International Trade Specialist, Office of Textiles and Apparel, U.S. Department of Commerce (202) 482-4212. For information on the quota status of these limits, refer to the Bureau of Customs and Border Protection website (http://www.cbp.gov), or call (202) 344-2650. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The Bilateral Textile Agreement of July 17, 2003, as amended on July 22, 2004, between the Governments of the United States and the Socialist Republic of Vietnam, establishes limits, until the Socialist Republic of Vietnam's entry into the World Trade Organization (WTO), for certain cotton, wool and man-made fiber textiles and textile products, produced or manufactured in the Socialist Republic of Vietnam and exported during the period January 1, 2007 through December 31, 2007.

In the letter published below, the Chairman of CITA directs the Commissioner, Bureau of Customs and Border Protection to establish the 2007 limits.

Exports of textile and apparel products from Vietnam subject to the directive below remain subject to visa and ELVIS requirements.

Due to the expiration on December 31, 2006 of the bilateral textile agreement with Ukraine, the United States is suspending visa requirements for textile products from Ukraine exported after that date. It is not yet certain whether there will be negotiations on extension of the bilateral agreement with Ukraine. Visa requirements may be reinstated upon extension of the bilateral agreement. In the letter below, CITA is directing the Bureau of Customs and Border Protection to temporarily suspend all textile visa requirements for goods exported from Ukraine on and after January 1, 2007.

A description of the textile and apparel categories in terms of HTS numbers is available in the CORRELATION: Textile and Apparel Categories with the Harmonized Tariff Schedule of the United States (refer to the Office of Textiles and Apparel website at http://otexa.ita.doc.gov).

Philip J. Martello,
Acting Chairman, Committee for the Implementation of Textile Agreements.

Committee for the Implementation of Textile Agreements

December 19, 2006.

Commissioner,

Bureau of Customs and Border Protection, Washington, DC 20229.

Dear Commissioner: Pursuant to section 204 of the Agricultural Act of 1956, as amended (7 U.S.C. 1854); and Executive Order 11651 of March 3, 1972, as amended, and the bilateral textile agreement of July 17, 2003, as amended on July 22, 2004, between the Governments of the United States and the Socialist Republic of Vietnam, you are directed to prohibit, effective on January 1, 2007, entry into the United States for consumption and withdrawal from warehouse for consumption of cotton, wool and man-made fiber textiles and textile products in the following categories, produced or manufactured in Vietnam and exported during the twelve-month period beginning on January 1, 2007 and extending through December 31, 2007 in excess of the following levels of restraint:

Category | Restraint limit
200 | 393,239 kilograms.
301 | 891,341 kilograms.
332 | 1,310,796 dozen pairs.
333 | 47,188 dozen.
334/335 | 845,701 dozen.
338/339 | 17,551,008 dozen.
340/640 | 2,603,525 dozen.
341/641 | 998,277 dozen.
342/642 | 708,094 dozen.
345 | 373,397 dozen.
347/348 | 8,908,353 dozen.
351/651 | 625,878 dozen.
352/652 | 2,384,474 dozen.
359-C/659-C ¹ | 425,783 kilograms.
359-S/659-S ² | 688,168 kilograms.
434 | 17,535 dozen.
435 | 43,264 dozen.
440 | 2,706 dozen.
447 | 56,287 dozen.
448 | 34,638 dozen.
620 | 8,341,906 square meters.
632 | 655,399 dozen pairs.
638/639 | 1,564,628 dozen.
645/646 | 252,988 dozen.
647/648 | 2,544,275 dozen.
¹ Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010; Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.
² Category 359-S: only HTS numbers 6112.39.0010, 6112.49.0010, 6211.11.8010, 6211.11.8020, 6211.12.8010 and 6211.12.8020; Category 659-S: only HTS numbers 6112.31.0010, 6112.31.0020, 6112.41.0010, 6112.41.0020, 6112.41.0030, 6112.41.0040, 6211.11.1010, 6211.11.1020, 6211.12.1010 and 6211.12.1020.

The limits set forth above are subject to adjustment pursuant to the current bilateral agreement between the Governments of the United States and the Socialist Republic of Vietnam.

Products in the above categories exported during 2006 shall be charged to the applicable category limits for that year (see directive dated December 13, 2005) to the extent of any unfilled balances. In the event the limits established for that period have been exhausted by previous entries, such products shall be charged to the limits set forth in this directive.

In carrying out the above directions, the Commissioner of Customs and Border Protection should construe entry into the United States for consumption to include entry for consumption into the Commonwealth of Puerto Rico.

In addition to the above, this directive suspends all previous directives issued to you by the Chairman, Committee for the Implementation of Textile Agreements concerning textile visa requirements for goods produced or manufactured in Ukraine, covering wool textile products subject to the quota limits under the United States - Ukraine bilateral textile agreement. Effective for such goods exported from Ukraine on and after January 1, 2007, you are directed not to require a textile visa for entry into the Customs territory of the United States.

The Committee for the Implementation of Textile Agreements has determined that these actions fall within the foreign affairs exception of the rulemaking provisions of 5 U.S.C. 553(a)(1).

Sincerely,

Philip J. Martello,

Acting Chairman, Committee for the Implementation of Textile Agreements.

[FR Doc. 06-9839 Filed 12-19-06; 2:51 pm]

BILLING CODE 3510-DS-S